DEPARTMENT OF STATE

[Public Notice No. 3444]

Uncitral Working Group On Arbitration: Possible New Uniform Rules On Written Form for Arbitration Agreement, Interim Measures of Protection, Mediation and Councilation; Meeting Notice

AGENCY: Department of State.

ACTION: The Arbitration and ADR Study Group of the Department's Advisory Committee on Private International Law will hold a meeting in Washington, DC at the Department of State on Thursday, November 9, 2000, from 9:30 am to 1:00 pm. The subject will be to provide advice to the U.S. delegation to the next meeting of the UNCITRAL Working Group on Arbitration.

Agenda

The meeting will consider the Report of the Secretary-General of UNCITRAL on “Possible Uniform Rules on Certain Issues Concerning Settlement of Commercial Disputes: Written Form for Arbitration Agreement, Interim Measures of Protection, Conciliation.” This document (no. A/CN/WG.II/WP.110) may be found at the UNCITRAL web page: www.uncitral.org. To find it, click on “Preparatory Documents,” then on “Working Group on Arbitration,” then on “33rd Session.” Depending on the time available, the meeting will also consider the Report of the Secretary-General of UNCITRAL on “Possible Future Work: Court-Ordered Interim Measures of Protection in Support of Arbitration, Scope of Interim Measures that may be Ordered by Arbitral Tribunals, Validity of the Agreement to Arbitrate.” This document (no. A/CN/WG.II/WP.111) may also be found at the same location on the UNCITRAL website.

Background

In response to requests from arbitration and mediation experts around the world, United Nations Commission on International Trade Law (UNCITRAL) has reestablished its Working Group on Arbitration. The Working Group has been charged with considering a number of pressing issues involving application and interpretation of the 1958 New York Convention on the Enforcement of Foreign Arbitral Awards and the UNCITRAL Model Law and Rules on Commercial Arbitration. These issues include the requirement of written form for arbitral agreements under Article 2 of the Convention, about which U.S. courts have taken different approaches, and the desirability of preparing model provisions on the enforcement of interim measures of protection. In addition, the Working Group is charged with considering the desirability of drafting a new UNCITRAL Model Law on Conciliation to pair with the UNCITRAL Conciliation Rules. (Note that the New York Convention and the UNCITRAL Model texts may all be found on the UNCITRAL website.)

The Working Group met in March 2000 and agreed in principle to begin to draft a Model Law on Conciliation, as well as consider the preparation of legal texts in the areas of the written form for arbitration agreements and interim measures of protection. The UNCITRAL Secretariat has now prepared the Report described above with proposals in these areas (Doc. No. A/CN/WG.II/WP.110).

In addition, the UNCITRAL Secretariat has prepared some preliminary background analysis on a number of additional topics that could form the basis for future consideration by the Working Group (Doc. No. A/CN/WG.II/WP.111). These proposals involve aspects of the use of court-ordered interim measures of protection, the scope of interim measures that may be issued by arbitrators, and the validity of agreements to arbitrate.

Attendance

The meeting will be held from 9:30 am to 1 pm in Conference Room 1105 at the Department of State, 2201 C St., NW., Washington, DC, and is open to the public. Because of security requirements for entering the building, persons wishing to attend must contact Ms. Rosie Gonzales, Office of the Legal Adviser, at 202-776-8420, fax 202-776-8482, email < gonzaler@ms.state.gov > no later than Monday November 6. Persons wishing to attend should provide Ms. Gonzales with their name, date of birth, and social security number. Copies of the pertinent documents may be found free of charge on the UNCITRAL website as indicated above, or will be provided free of charge by contacting Ms. Gonzales at the above numbers.

Persons not able to attend may provide written comments to Mr. Jeffrey Kovar at the following address: 2430 E St., NW., South Bldg., Suite 203, Washington, DC 20037-2851.

Jeffrey D. Kovar,
Assistant Legal Adviser for Private International Law, Department of State.

[FR Doc. 00-27430 Filed 10-24-00; 8:45 am]

BILLING CODE 4710-08-P